FEDERAL RETIREMENT THRIFT INVESTMENT BOARD

Notice of Board Meeting

DATES: October 19, 2020 at 10:00 a.m.

ADDRESSES: Telephonic. Dial-in (listen only) information: Number: 1-877-446-3914, Code: 9640426.

FOR FURTHER INFORMATION CONTACT: Kimberly Weaver, Director, Office of External Affairs, (202) 942-1640.

SUPPLEMENTARY INFORMATION:

Board Meeting Agenda

Open Session

1. Approval of the September 14, 2020 Board Meeting Minutes

2. Investment Manager Annual Service Review

3. Monthly Reports

(a) Participant Activity Report

(b) Legislative Report

4. Quarterly Reports

(c) Investment Policy

(d) Budget Review

(e) Audit Status

5. Mid-Year Financial Review

6. Enterprise Risk Management Update

Closed Session

Information covered under 5 U.S.C. 552b(c)(6) and (c)(9)(b).

Dated: October 7, 2020.
Dharmesh Vashee,
Acting General Counsel, Federal Retirement Thrift Investment Board.

[FR Doc. 2020-22613 Filed 10-13-20; 8:45 am]

BILLING CODE P